SECURITIES AND EXCHANGE COMMISSION

Sunshine Act Meeting

Federal Register Citation of Previous Announcement: [To be announced].

Status: Closed meeting.

Place: 100 F Street, NE., Washington, DC.

Date and Time of Previously Announced Meeting: Tuesday, December 13, 2005.

Change in the Meeting: Additional items.

The following items have been added to the closed meeting scheduled for Tuesday, December 20, 2005: Opinion and a Regulatory matter regarding a financial institution.

Commissioner Campos, as duty officer, voted to consider these items listed for the closed meeting in closed session and that no earlier notice thereof was possible.

At times, changes in Commission priorities require alterations in the scheduling of meeting items. For further information and to ascertain what, if any, matters have been added, deleted or postponed, please contact the Office of the Secretary at (202) 551-5400.

Dated: December 15, 2005.
Jonathan G. Katz,
Secretary.

[FR Doc. 05-24294 Filed 12-16-05; 11:13 am]

BILLING CODE 8010-01-P